DEPARTMENT OF THE INTERIOR

National Park Service

General Management Plan, Environmental Impact Statement, Big Bend National Park, Texas; River Management Plan, Environmental Impact Statement, Rio Grande Wild and Scenic River, Texas, and Wilderness Study, Environmental Impact Statement, Harte Ranch, Big Bend National Park, Texas

AGENCY: National Park Service, Department of the Interior.

ACTION: Notice of intent to prepare an environmental impact statement for the general management plan, Big Bend National Park (NP), Texas, river management plan, Rio Grande Wild and Scenic River (WSR), Texas, and wilderness study, Harte Ranch, Big Bend National Park.

SUMMARY: Under the provisions of the National Environmental Policy Act of 1969, the National Park Service is preparing an environmental impact statement for the general management plan (GMP) for Big Bend NP, river management plan (RMP), Rio Grande WSR and wilderness study, Harte Ranch, Big Bend NP. The Harte Ranch, in the northern portion of the park, was added to the park since the 1973 Final Environmental Impact Statement on Proposed Wilderness Classification, Big Bend National Park. The planning projects may be covered together in one EIS or may be separated into two or three. The planning effort will result in a comprehensive general management plan and river management plan that encompass preservation of natural and cultural resources, visitor use and interpretation, roads, and facilities. In cooperation with local interests, attention will also be given to resources outside the boundaries that affect the integrity of the park or wild and scenic river. Alternatives to be considered include no-action, the preferred alternative, and other alternatives addressing the following major issues:

• How can the important natural and cultural resources be best protected and preserved, while providing for visitor use for present and future generations?

• What level and type of use is appropriate to be consistent with the park's purpose, and to relate to the park's significance?

• What facilities are needed to meet the mission goals of the park regarding natural and cultural resource management, visitor use and interpretation, partnerships, and operations?

The document will also include a study of the Harte Ranch and its characteristics and values related to wilderness as defined in the Wilderness Act. The study will include alternative recommendations to Congress for Wilderness designation of all or portions of the Harte Ranch.

The National Park Service is planning to hold public scoping meetings regarding the three projects (GMP, RMP, wilderness study) during the week of May 22. Specific dates, times, and locations will be announced in the local media, and can be obtained by contacting the park superintendent. The purpose of these meetings is to explain the planning process and to obtain comments concerning appropriate resource management; desired visitor use, interpretation, and facilities; and issues that need to be resolved. In addition to attending scoping meetings, people wishing to provide input to this initial phase of developing the GMP, RMP, and wilderness study may address comments to the superintendent. Scoping comments should be received no later than 60 days from the publication of this Notice of Intent.

Comments

If you wish to submit issues or provide input to this initial phase of developing the GMP, RMP, and wilderness study, you may do so by any one of several methods. In addition to attending scoping meetings, you may mail comments to Superintendent, P.O. Box 129, Big Bend National Park, Texas 79834. You may comment via the Internet to BIBE_Superintendent@NPS.gov. Please submit Internet comments as an ASCII file avoiding the use of special characters and any form of encryption. Please also include “Attn: GMP Team” and your name and return address in your Internet message. If you do not receive a confirmation from the system that we have received your Internet message, contact Superintendent Frank Deckert directly at telephone (915) 477-1101. Finally you may hand-deliver your comments to park headquarters, Panther Junction, Big Bend National Park, Texas. Scoping comments should be received no later than 60 days from the publication of this Notice of Intent. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Superintendent Frank Deckert, P. O. Box 129, Big Bend National Park, Texas 79834; Tel: (915) 477-1101; Fax: (915) 477-2357; e-mail: deckert_frank@nps.gov.

Dated: April 26, 2000,
Richard Everhart,
Acting Director, Intermountain Region, National Park Service.

[FR Doc. 00-10949 Filed 5-2-00; 8:45 am]

BILLING CODE 4310-70-P